DEPARTMENT OF AGRICULTURE

Forest Service

Duck Creek—Swains Access Management Project, Dixie National Forest, Iron, Garfield, and Kane Counties, UT

AGENCY: Forest Service, USDA.

ACTION: Notice of intent to prepare an environmental impact statement.

SUMMARY: Notice is hereby given that the Forest Service, USDA, will prepare an environmental impact statement (EIS) for the Forest Service to implement several proposals within the Duck Creek—Swains Access Management Project area, on the Cedar City Ranger District, Dixie National Forest. These proposals include:

1. Maintain approximately 286 miles of road open to motorized vehicle travel. These roads are presently open to motorized use, and will remain open. Approximately 32 miles of these roads are open to street-legal vehicles only and would continue with the same management.

2. Construct 30 miles of motorized vehicle trail by restricting travel to motorized trail use on approximately 28 miles of road, and constructing approximately two miles of new trail. Motorized travel that would be allowed would consist of ATV's and motorcycles. Foot, horse, and bicycle use would also be allowed. This trail construction would include constructing a bridge over Swains Creek. These motorized trails would be segments that would connect existing trails with the goal to improve travel to destination points. Combined with the existing Duck Creek ATV trail, the total motorized travel would be approximately 32 miles.

3. Remove (decommission) approximately 122 miles from the road system and close to public motorized use. Levels of decommissioning on all or parts of these roads may include blocking the entrance, reestablishing vegetation and water barring, removing fills and culverts, establishing drainage ways and removing unstable road shoulders, or full obliteration by recontouring and restoring natural slopes. Recontouring would generally occur on slopes exceeding 30%. Approximately five segments of road totaling 1.3 acres would need recontouring. Three segments on unclassified road U-434 would need recontouring; two are within T.37S.,R.6W., Section 18, and one in T.37S.,R.7W., Section 13. The other two segments are on unclassified roads: U-349, near Swains Creek in T.38S., R.7W., Section 13; and U-85 in T.38S., R.7W., Section 28.

4. Close approximately 180 miles of road to motorized public use, retaining them on the Forest Transportation System for forest management needs. These roads would be kept on the Forest Transportation System for forest management, but not open to public motorized vehicle use. Methods used to close these roads would include a variety of techniques depending on road condition, topography, vegetation type and condition, and soil type. Management options could include gates, logs, rocks, signs, brush piles, or segments of fence.

5. Amend the Dixie National Forest Travel Plan to implement a “closed to motorized vehicle use, unless posted open” signing program in the Duck Creek—Swains Area. This proposed activity would be administrative in nature and would not involve ground-disturbing activities. The present direction in the travel plan that prohibits off-road vehicle use (except snowmobiles when adequate snow exists) would remain in effect and unchanged.

6. Relocate approximately one-eighth of a miles of the Bower's Flat road out of a wet meadow. Relocating the Bower's Flat road would require heavy equipment to create a new road and restore the old road and disturbed meadow to natural condition. The legal location is: T.37S., R.7W., Section 33.

7. Any new roads or travel ways developed by users and not approved by the Forest Service and observed after this proposal and corresponding decision will be decommissioned. The purpose of the Roads Analysis and this proposal is to identify which roads are needed for forest management, including recreation needs. In compliance with Federal Regulations at 36 CFR 212 et al. January 12, 2001, roads that are not needed will be decommissioned.

The purpose of these proposals is to initiate actions that would improve the motorized transportation system, improve habitat for wildlife, and reduce sedimentation and erosion. The project area is located approximately 24 miles east of Cedar City, Utah. The project would be implemented in accordance with direction in the Land and Resource Management Plan (Forest Plan) for the Dixie National Forest, 1986.

The agency gives notice that the environmental analysis process is underway. During the analysis process, an issue surfaced that warranted the disclosure of effects under an EIS. This issue is the high degree of interest associated with closing roads in the area.

Interested and potentially affected persons, along with local, state, and other Federal agencies, are invited to participate in, and contribute to, the environmental analysis. The Dixie National Forest invites written input regarding issues specific to the proposed action.

DATES: Written comments to be considered in the preparation of the Draft Environmental Impact Statement (DEIS) should be submitted on or before June 20, 2001. The DEIS is expected to be available for review by August 2001. The Record of Decision and Final Environmental Impact Statement are expected to be available by December 2001.

ADDRESSES: Submit written comments to: District Ranger, Cedar City Ranger District, 82 North 100 East, P.O. Box 0627, Cedar City, Utah 84721-0627; FAX: (801) 865-3791; E-mail: psummers@fs.fed.us

FOR FURTHER INFORMATION CONTACT: Direct questions about the proposed action and EIS to Priscilla R. Summers, Project Environmental Coordinator, by mail at 82 North 100 East, P.O. Box 627, Cedar City, Utah 84721-0627; or by phone at (801) 865-3700; FAX: (801) 865-3791; E-mail: psummers@fs.fed.us

SUPPLEMENTARY INFORMATION: The proposed project is located in a 93,099-acre analysis area (including 20,241 acres on private land) in the Lower Mammoth, West Fork Asay Creek, Asay Creek, Duck Creek, Strawberry Creek, Swains Creek, and Castle Creek watersheds of the Upper Sevier Sub-Basin; and Upper North Fork Virgin River, Muddy Creek, Lydia's Canyon, Stout Canyon, and Upper East Fork Virgin River watersheds of the Upper Virgin Sub-Basin. There are approximately 617 miles of road in the project area, with increasing all-terrain vehicle (ATV) use.

The purpose of the project is to improve the motorized travel system in the project area while reducing erosion and sedimentation, and improving habitat for wildlife.

Construction of approximately two miles of motorized vehicle trail will connect existing routes to provide improved access to destination points (mostly private lands within the area). Road density of the area is approximately 4.8 miles per square mile. The guideline in the Dixie National Forest Land and Resource Management Plan is two miles of road per square mile or less. Generally, road densities above two miles per square mile reduce habitat effectiveness and habitat quality for big game. The higher the road density, the lower the quality of habitat. Roads within nesting areas for raptors causes disturbance to adults and young, and can cause nesting failure.

Stream crossings that lack adequate structures incur higher levels of sedimentation and erosion than those with proper structures. There are five streams lacking these structures that are causing undesirable sedimentation into streams. Approximately 12 miles of road in the project area are hydrologically connected to streams. Runoff on these roads delivers sediment from the road directly into the stream. Approximately 24 miles of road have poor drainage where people drive around the wet area creating a new route or widening the existing one. This is occurring in a wet meadow on one road, which is impacting the meadow in larger and larger areas each year.

Signing in the area is an open unless closed system. Enforcement of closures is difficult because signs get torn down. Currently, motor vehicle use is only allowed on roads and designated motorized vehicle trails. Off-road use is prevalent and common, which has created what appear to be new roads . With the present signing system, closing this road with a sign and assuring that the sign remains in place is difficult. There are approximately four miles of unauthorized ATV trail that are causing undesirable impacts to streams and/or wildlife habitat.

Motorized vehicle trail construction (including a bridge), road closures, road decommission, and signing roads closed unless posted open would occur on National Forest system lands located within portions of Sections 23-26, and 35-36 of T.37S., R.8W., Salt Lake Base Meridian (SLBM), Iron County, UT; Sections 13-14, and 22-36 of T.37S., R.7W., and Sections 3-6, 17-23, and 26-35 of T.37S., R.6W., Salt Lake Base Meridian (SLBM), Garfield County, UT; and Sections 1-29, 33-36 of T.38S., R.8W.; Sections 1-36 of T.38S., R.7W.; Sections 3-8, 17-20, and 28-33 of T.28-33 of T.38S., R.6 W.; Sections 4-8, and 17-20 of T.39S. R.6W.; Sections 1-24 of T.39S., R.7W.; and Sections 1-3, and 11-13 of T. 39S., R.8W., Salt Lake Base Meridian (SLBM), Kane County, UT.

The proposed actions would implement management direction, contribute to meeting the goals and objectives identified in the Dixie National Forest Land and Resource Management Plan, and move the project area toward the desired condition. This project EIS would be tiered to the Dixie National Forest Land and Resource Management Plan EIS (1986), which provides goals, objectives, standards and guidelines for the various activities and land allocations on the Forest.

No permits or licenses are required to implement the proposed action and the issuing authority is the Forest Service.

As lead agency, the Forest Service would analyze and document direct, indirect, and cumulative environmental effects for a range of alternatives. Each alternative would include mitigation measures as necessary and monitoring requirements. No alternatives to the proposed action have been identified at this time, however, the following preliminary issue has been identified: (1) Use of roads within nesting areas for northern goshawk and peregrine falcon contribute to nesting failures.

Mary Wagner, Forest Supervisor, Dixie National Forest, is the responsible official. She can be reached by mail at 82 North 100 East, P.O. Box 580, Cedar City, Utah, 84720-0580.

The Forest Service is seeking comments from individuals, organizations, and local, state, and Federal agencies who may be interested in or affected by the proposed action. Scoping notices have been sent to potentially affected persons and those currently on the Dixie National Forest mailing list that have expressed interest in timber management proposals, proposals relating to wildlife habitat modifications and Forest Plan amendments. Other interested individuals, organizations, or agencies may have their names added to the mailing list for this project at any time by submitting a request to: Priscilla R. Summers, Project Environmental Coordinator, 82 North 100 East, P.O. Box 627, Cedar City, UT 84720-0627.

The analysis area includes both National Forest System lands and private lands. Proposed treatments would occur only on National Forest system lands. Motorized trails are proposed to cross State Highway 14. No federal or local permits, licenses or entitlements would be needed.

The comment period on the draft environmental impact statement will be 45 days from the date the Environmental Protection Agency publishes the notice of availability in the Federal Register.

The Forest Service believes, at this early stage, it is important to give reviewers notice of several court rulings related to public participation in the environmental review process. First, reviewers of the DEIS must structure their participation in the environmental review of the proposal so that it is meaningful and alerts an agency to the reviewers' position and contentions. Vermont Yankee Nuclear Power Corp. v. NRDC, 435 U.S. 519, 553 (1978). Also, environmental objections that could have been raised at the DEIS stage but that are not raised until after completion of the final EIS may be waived or dismissed by the courts. City of Angoon v. Hodel, (9th Circuit, 1986) and Wisconsin Heritages, Inc. v. Harris, 490 F. Supp. 1334, 1338 (E.D. Wis. 1980). Because of these court rulings, it is very important that those interested in the proposed action participate by the close of the 45-day comment period so that substantive comments and objections are made available to the Forest Service at the time it can meaningfully consider them and respond to them in the final EIS.

To assist the Forest Service in identifying and considering issues and concerns about the proposed action, comments on the DEIS should be as specific as possible. It is also helpful if comments refer to specific pages or chapters of the draft statement. Comments may also address the adequacy of the statement or the merits of the alternatives formulated and discussed in the statement. Reviewers may wish to refer to the Council on Environmental quality Regulations for implementing the procedural provisions of the National Environmental Policy Act at 40 CFR 1503.3 in addressing these points.

Dated: May 11, 2001.
Mary Wagner,
Forest Supervisor, Dixie National Forest.

[FR Doc. 01-12664 Filed 5-18-01; 8:45 am]

BILLING CODE 3410-11-M